FEDERAL ELECTION COMMISSION

[Notice 2013-15]

Filing Dates for the Florida Special Elections in the 13th Congressional District

AGENCY: Federal Election Commission.

ACTION: Notice of filing dates for special election.

SUMMARY: Florida has scheduled special elections on January 14, 2014, and March 11, 2014, to fill the U.S. House of Representative seat of the late Representative Bill Young.

Committees required to file reports in connection with the Special Primary Election on January 14, 2014, shall file a 12-day Pre-Primary Report. Committees required to file reports in connection with both the Special Primary and the Special General Election on March 11, 2014, shall file a 12-day Pre-Primary Report, 12-day Pre-General Report and a Post-General Report.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

All principal campaign committees of candidates who participate in the Florida Special Primary and Special General Elections shall file a 12-day Pre-Primary Report on January 2, 2014; a 12-day Pre-General Report on February 27, 2014; and a Post-General Report on April 10, 2014. (See charts below for the closing date for each report.)

All principal campaign committees of candidates participating only in the Special Primary Election shall file a 12-day Pre-Primary Report on January 2, 2014. (See charts below for the closing date for each report.)

Unauthorized Committees (PACs and Party Committees)

Political committees filing on a semi-annual basis in 2013 or a quarterly basis in 2014 are subject to special election reporting if they make previously undisclosed contributions or expenditures in connection with the Florida Special Primary or Special General Elections by the close of books for the applicable report(s). (See chart below for the closing date for each report).

Committees filing monthly that make contributions or expenditures in connection with the Florida Special Primary or General Elections will continue to file according to the monthly reporting schedule.

Additional disclosure information in connection with the Florida Special Elections may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of the lobbyist bundling disclosure threshold during the special election reporting periods (see charts below for closing date of each period). 11 CFR 104.22(a)(5)(v) and (b).

The lobbyist bundling disclosure threshold for calendar year 2013 is $17,100. This threshold amount may change in 2014 based upon the annual cost of living adjustment (COLA). As soon as the adjusted threshold amount is available, the Commission will publish it in the Federal Register and post it on its Web site. 11 CFR 104.22(g) and 110.17(e)(2). For more information on these requirements, see Federal Register Notice 2009-03, 74 FR 7285 (February 17, 2009).

Calendar of Reporting Dates for Florida Special Election
Report | Close of books ¹ | Reg./cert. & overnight mailing deadline | Filing deadline
Committees Involved in only the Special Primary (01/14/14) Must File
Pre-Primary | 12/25/13 | 12/30/13 | 01/02/14
Year-End | 12/31/13 | 01/31/14 | 01/31/14
Committees Involved in Both the Special Primary (01/14/14) and Special General (03/11/14) Must File
Pre-Primary | 12/25/13 | 12/30/13 | 01/02/14
Year-End | 12/31/13 | 01/31/14 | 01/31/14
Pre-General | 02/19/14 | 02/24/14 | 02/27/14
Post-General | 03/31/14 | 04/10/14 | 04/10/14
April Quarterly | —WAIVED—
July Quarterly | 06/30/14 | 07/15/14 | 07/15/14
Committees Involved in Only the Special General (03/11/14) Must File
Pre-General | 02/19/14 | 02/24/14 | 02/27/14
Post-General | 03/31/14 | 04/10/14 | 04/10/14
April Quarterly | —WAIVED—
July Quarterly | 06/30/14 | 07/15/14 | 07/15/14
¹ The reporting period always begins the day after the closing date of the last report filed. If the committee is new and has not previously filed a report, the first report must cover all activity that occurred before the committee registered as a political committee up through the close of books for the first report due.

On behalf of the Commission,
Dated: November 6, 2013.
Ellen L. Weintraub,
Chair, Federal Election Commission.

[FR Doc. 2013-27187 Filed 11-13-13; 8:45 am]

BILLING CODE 6715-01-P